NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 8, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food and Nutrition Service (N1-462-04-3, 4 items, 4 temporary items). Inputs, master file and Web site records associated with a Web-based food ordering system used by state and local governments, the Federal Government, and private industry. The proposed disposition instructions are limited to electronic records for certain items and to paper records for other items.

2. Department of Agriculture, Food Safety and Inspection Service (N1-462-04-9, 1 item, 1 temporary item). Master file associated with an electronic information system that provides information on microbiological, chemical, and pathological analyses of domestic and imported meat and poultry and their processed products. The proposed disposition instructions are limited to electronic records.

3. Department of Justice, Federal Bureau of Investigation (N1-65-08-20, 1 item, 1 temporary item). This schedule requests authority to destroy case 29J-OC-63713, which pertains exclusively to the investigation of the captioned individual. This request responds to a Federal Pre-Trial Diversion Program court order to delete the records of the captioned individual.

4. Department of State, Bureau of Near Eastern Affairs (N1-59-08-10, 7 items, 4 temporary items). Subject files, biographic files, extra copies of briefing books, and departmental task force/working group files. Proposed for permanent retention are bureau-level task force/working group files, geographic office briefing books, and unique collections of records relating to historically significant events within the geographic region covered by the bureau. The proposed disposition instructions for permanent items are limited to paper records.

5. Federal Housing Finance Board, Office of the Inspector General (N1-485-08-2, 10 items, 10 temporary items). Records relating to audits, policies, procedures, legislation, regulations, and workload. The proposed disposition instructions are limited to paper records.

6. National Reconnaissance Office, Management Services and Operations (N1-525-08-2, 1 item, 1 temporary item). Audio and video tapes of polygraph interviews of agency staff and contractors containing adverse information.

7. Office of Personnel Management, Federal Investigative Services Division (N1-478-08-2, 8 items, 8 temporary items). Records pertaining to the government-wide security background investigation program including investigation case files, reports, indexes, adjudications, and appraisals of agency security/suitability investigation programs.

8. Office of Personnel Management, Office of the Inspector General (N1-478-08-1, 16 items, 16 temporary items). Records include administrative sanction files, audit files, investigative files, legislative files, and legal files. The proposed disposition instructions are limited to paper records for most items.

Dated: August 1, 2008.
Michael J. Kurtz,
Assistant Archivist for Records Services—Washington, DC.

[FR Doc. E8-18380 Filed 8-7-08; 8:45 am]

BILLING CODE 7515-01-P